DEPARTMENT OF COMMERCE

Economic Development Administration

[Docket No.: 10115567-0567-01]

Solicitation of Applications for the Planning and Local Technical Assistance Programs

AGENCY: Economic Development Administration (EDA), Department of Commerce.

ACTION: Notice and request for applications.

SUMMARY: Pursuant to the Public Works and Economic Development Act of 1965, as amended, EDA announces general policies and application procedures for grant-based investments under the Planning and Local Technical Assistance Programs. These programs will help communities develop the planning and technical expertise to support communities and regions in their comprehensive, entrepreneurial, and innovation-based economic development efforts. Resulting in increased private investment and higher-skill, higher-wage jobs in areas experiencing substantial and persistent economic distress, these programs are designed to enhance the competitiveness of regions. Applicants are advised to read carefully the federal funding opportunity (FFO) announcement for this notice and request for applications. For a copy of the FFO announcement, please see the Web sites listed below under “Electronic Access.”

DATES: Applications are accepted on a continuing basis and processed as received. As described below under “APPLICATION SUBMISSION REQUIREMENTS” and in section V of the FFO announcement, applications may be submitted electronically via http://www.grants.gov. Applications also may be delivered via hand delivery, postal mail or courier service in paper (hard copy) format to the applicable EDA regional office listed below under “Contact Information for EDA's Regional Offices.”

Application Submission Requirements: The applicant may obtain the application package electronically at http://www.grants.gov. All components of the application package may be accessed and downloaded (in a screen-fillable format) at http://www.grants.gov/applicants/apply_for_grants.jsp. The preferred electronic file format for attachments is portable document format (PDF); however, EDA will accept electronic files in Microsoft Word, WordPerfect, or Microsoft Excel. The applicant must complete the http://www.grants.gov registration process in order to submit an application through http://www.grants.gov; however, please note that registration is not required for an applicant to access, view, or download the application.

Alternatively, an applicant eligible for assistance under this notice may request a paper (hard copy) application package by contacting the applicable EDA regional office listed below under “Contact Information for EDA's Regional Offices.”

Under this notice, EDA's regional offices will accept applications on an ongoing basis. An application received after the date of this notice will be processed in accordance with the requirements set forth herein until the next annual FFO for EDA's Planning and Local Technical Assistance Programs is posted on http://www.grants.gov and the related notice and request for applications is published in the Federal Register. The content of applications is the same for paper submissions as it is for electronic submissions. EDA will not accept facsimile or e-mail transmissions of applications.

Please note that all applicants, whether choosing to apply electronically via http://www.grants.gov or submit a paper (hardcopy) application, must apply for and maintain a current Central Contractor Registration (CCR) database registration. See section VII.C of the FFO announcement.

Electronic Submissions: Please read carefully section V.D.1 of the FFO to ensure your application is received by EDA and for specific http://www.grants.gov submission procedures. EDA strongly encourages electronic submissions of applications through http://www.grants.gov. Applications must be successfully validated and time-stamped by http://www.grants.gov. In order to submit an application through http://www.grants.gov, an applicant first must register for a http://www.grants.gov user ID and password. This process can take between three to five business days or as long as four weeks if all steps are not completed correctly. EDA strongly recommends that applicants register, review the application instructions, and apply as early as possible. Information about the registration process can be found at http://grants.gov/applicants/organization_registration.jsp.

Applicants must register as organizations, not as individuals. As part of the registration process, you will register at least one Authorized Organizational Representative (AOR) for your organization. AORs registered at http://www.grants.gov are the only officials with the authority to submit applications at http://www.grants.gov, so please ensure that your organization's application is submitted by an AOR. If the application is submitted by anyone other than your organization's AOR, it will be rejected by the http://www.grants.gov system and cannot be considered by EDA. Note that a given organization may designate multiple individuals as AORs for http://www.grants.gov purposes.

Applicants should save and print written proof of an electronic submission made at http://www.grants.gov. If problems occur, the applicant is advised to (1) print any error message received, and (2) call the http://www.grants.gov. Contact Center at 1-800-518-4726 for assistance. The following link lists useful resources: http://www.grants.gov/help/help.jsp. Also, the following link lists frequently asked questions (FAQs): http://www.grants.gov/applicants/resources.jsp#faqs. If you do not find an answer to your question under the “Applicant FAQs,” try consulting the “Applicant User Guide” or contacting http://www.grants.gov via e-mail at support@grants.gov or telephone at 1-800-518-4726.

Paper Submissions: An applicant may submit a completed paper (hard copy) application via hand delivery, postal mail or courier service to the applicable regional office listed below under “Contact Information for EDA's Regional Offices.”

Paper (hard copy) submissions must include one original and two copies of the complete application package submitted via hand delivery, postal mail or courier service to the applicable regional office, unless otherwise directed by EDA staff. DOC mail security measures may delay receipt of United States Postal Service mail for up to two weeks. Therefore, applicants that choose to submit paper submissions are advised to use guaranteed overnight delivery services.

Contact Information for EDA's Regional Offices:

Applicants in Alabama, Florida, Georgia, Kentucky, Mississippi, North Carolina, South Carolina, and Tennessee, may submit paper submissions to: Economic Development Administration, Atlanta Regional Office, 401 West Peachtree Street, NW., Suite 1820, Atlanta, Georgia 30308, Telephone: (404) 730-3002, Fax: (404) 730-3025.

Applicants in Arkansas, Louisiana, New Mexico, Oklahoma, and Texas, may submit paper submissions to: Economic Development Administration, Austin Regional Office, 504 Lavaca, Suite 1100, Austin, Texas 78701-2858, Telephone: (512) 381-8144, Fax: (512) 381-8177.

Applicants in Illinois, Indiana, Michigan, Minnesota, Ohio, Wisconsin, and Muscatine and Scott counties, Iowa, may submit paper submissions to: Economic Development Administration, Chicago Regional Office, 111 North Canal Street, Suite 855, Chicago, Illinois 60606, Telephone: (312) 353-7706, Fax: (312) 353-8575.

Applicants in Colorado, Iowa (excluding Muscatine and Scott counties), Kansas, Missouri, Montana, Nebraska, North Dakota, South Dakota, Utah, and Wyoming, may submit paper submissions to: Economic Development Administration, Denver Regional Office, 410 17th Street, Suite 250, Denver, Colorado 80202, Telephone: (303) 844-4714, Fax: (303) 844-3968.

Applicants in Connecticut, Delaware, District of Columbia, Maine, Maryland, Massachusetts, New Hampshire, New Jersey, New York, Pennsylvania, Puerto Rico, Rhode Island, Vermont, U.S. Virgin Islands, Virginia, and West Virginia, may submit paper submissions to: Economic Development Administration, Philadelphia Regional Office, Curtis Center, 601 Walnut Street, Suite 140 South, Philadelphia, Pennsylvania 19106, Telephone: (215) 597-4603, Fax: (215) 597-1063.

Applicants in Alaska, American Samoa, Arizona, California, Guam, Hawaii, Idaho, the Republic of Marshall Islands, the Federated States of Micronesia, Nevada, the Commonwealth of Northern Marianas Islands, Oregon, Republic of Palau, and Washington, may submit paper submissions to: Economic Development Administration, Seattle Regional Office, Jackson Federal Building, Room 1890, 915 Second Avenue, Seattle, Washington 98174, Telephone: (206) 220-7660, Fax: (206) 220-7669.

FOR FURTHER INFORMATION CONTACT: For additional information or for a paper copy of the FFO announcement, contact the appropriate EDA regional office listed above.

SUPPLEMENTARY INFORMATION:

Program Information: EDA's mission is to lead the Federal economic development agenda by promoting innovation and competitiveness, preparing American regions for growth and success in the worldwide economy. In implementing this mission pursuant to the Public Works and Economic Development Act of 1965, as amended (42 U.S.C. 3121 et seq.) (PWEDA), EDA advances economic growth by assisting communities and regions experiencing chronic high unemployment and low per capita income to create an environment that fosters innovation, promotes entrepreneurship, and attracts increased private capital investment.

Under this notice and request for applications, EDA solicits applications for the Planning and Local Technical Assistance Programs authorized under PWEDA. EDA published a separate FFO dated October 14, 2010, for its Public Works, Economic Adjustment Assistance, and Global Climate Change Mitigation Incentive Fund (GCCMIF) Programs, which can be accessed on EDA's Web site at http://www.eda.gov/InvestmentsGrants/FFON.xml. EDA's Web site at http://www.eda.gov provides additional information on EDA and its programs.

EDA expects to post separate FFO announcements at http://www.grants.gov and at http://www.eda.gov that will set forth the specific funding priorities, application and selection processes, time frames, and evaluation criteria for the FY 2011 University Center Economic Development Program competition and for certain National Technical Assistance and Research and Evaluation projects to be funded with FY 2011 appropriations.

Electronic Access: The FFO announcement for the FY 2011 competitive solicitation for EDA's Planning and Local Technical Assistance Programs is available at http://www.grants.gov and at http://www.eda.gov.

Funding Availability: As of November 26, 2010, the full amount of FY 2011 appropriations is not available and EDA is operating under the authority of the FY 2011 Continuing Resolution (Pub. L. No. 111-242, 124 Stat. 2607, September 30, 2010). The FY 2010 median award amounts are provided only for your information. The continuing resolution allocates funding based on FY 2010 funding levels, but on a pro-rated basis, until the enactment of the FY 2011 appropriations. Assuming EDA receives FY 2011 appropriations of approximately the same level as in FY 2010, the following information may prove useful for planning purposes.

In FY 2010, funding appropriated under the Consolidated Appropriations Act, 2010 (Pub. L. 111-117, 123 Stat. 3034 at 3114 (2009)) made $255,000,000 available for the economic development assistance programs authorized under PWEDA: Public Works and Economic Development Facilities Program; Economic Adjustment Assistance; GCCMIF; Planning; Local Technical Assistance; University Center Economic Development Program; and Research and National Technical Assistance. EDA expects funding levels for FY 2011 to be similar to FY 2010; however the final amounts will not be known until Congress passes the FY 2011 appropriations. When the full FY 2011 appropriations become available, EDA will publish a Federal Register notice to announce the final FY 2011 funding levels for the Planning and Local Technical Assistance Programs. The funding periods and funding amounts referenced in this notice are subject to the availability of funds at the time of award, as well as to Department of Commerce (DOC) and EDA priorities at the time of award. DOC and EDA will not be held responsible for application preparation and submission costs. Publication of this notice does not obligate DOC or EDA to award any specific grant or cooperative agreement or to obligate all or any part of available funds.

The following subsections provide more information on the two programs to which this notice applies. As noted above, specific FY 2011 funding amounts for each program will be announced separately upon availability. Please note that the approximations provided below are for informational purposes only and are not intended to restrict future awards.

1. Planning Program: (CFDA No. 11.302; 13 CFR part 303):

EDA's Planning Program is one of six economic development assistance programs the agency operates under PWEDA. Under this program, EDA provides assistance to eligible recipients to create regional economic development plans in order to stimulate and guide the economic development efforts of a community or region. As part of this program, EDA supports Partnership Planning investments to facilitate the development, implementation, revision, or replacement of comprehensive economic development strategies (CEDS). EDA provides Partnership Planning grants to the designated planning organization (e.g., District Organization) serving EDA-designated Economic Development Districts (as defined in 13 CFR 300.3) throughout the Nation. These planning organizations are typically recognized by the State in which they reside as multi-jurisdictional councils of governments, regional commissions, or planning and development centers. Information on the Economic Development Districts may be found on EDA's Web site at http://www.eda.gov/PDF/EDD%20List_030410.pdf. Planning Partnership grants enable planning organizations to manage and coordinate the development and implementation of CEDS to address the unique needs of their respective regions. In addition, EDA provides Partnership Planning grants to Indian Tribes to help organize and assist with the implementation of economic development activities within their areas. The majority of funding under the Planning Program is for Partnership Planning grants for Indian Tribes and EDA-designated Economic Development Districts.

The Planning Program also helps support planning organizations, including District Organizations and Indian Tribes, with Short-Term Planning and State Planning investments designed to create and retain higher-skill, higher-wage jobs, particularly for the unemployed and underemployed in the Nation's most economically distressed regions. For example, EDA might provide Short-Term Planning funding to a coalition of Tribal and regional organizations to plan a coordinated response to the sudden loss of a major employer in the affected area(s).

To provide investment assistance for CEDS and State plans as well as for Short-Term Planning activities, EDA allocated $31,000,000 in FY 2010 for its Planning Program. Of this amount, $28,597,033 was allocated for Partnership Planning awards that support the existing network of Economic Development Districts and $2,402,967 for Short-Term Planning projects. The median annual grant amount for a Partnership Planning award in FY 2010 was $61,000. The median annual grant amount for a Short-Term Planning award in FY 2010 was $65,000.

As in FY 2010, EDA expects that the majority of FY 2011 Planning Program funds will be used to provide support to existing planning organizations, including District Organizations and Indian Tribes. Specifically, EDA anticipates funding 375 District Organizations (in connection with their respective Economic Development Districts) and 58 Indian Tribes. Some regional offices may offer three-year funding to their planning organizations, while others may offer annually funding.

2. Local Technical Assistance (CFDA No. 11.303; 13 CFR part 306, subpart A):

The Local Technical Assistance Program helps eligible recipients fill the knowledge and information gaps that may prevent leaders in the public and nonprofit sectors in economically distressed regions from making optimal decisions on local economic development issues. For example, EDA might provide funds to help a city prepare a feasibility study regarding the use of an abandoned manufacturing facility for an activity that advances local economic development.

In FY 2010, EDA allocated $1,362,592 to the Local Technical Assistance Program, thereby allocating approximately $227,099 to each of EDA's six regional offices. The median size of a Local Technical Assistance grant made in FY 2010 was $50,000.

Funding Instrument and Project Periods: Subject to the availability of funds, EDA may enter into a grant with an eligible applicant in order to provide funding for eligible activities under this notice. Project periods are dependent on the project scope of work, the nature of the project and the EDA program under which the grant is awarded. In general, a Planning or Local Technical Assistance investment may allow for one to three years for completion of the scope of work. EDA expects that all projects will proceed expeditiously and encourages investments with demonstrated capacity to be implemented quickly and effectively, accelerating positive economic impacts.

Statutory Authorities: The statutory authorities for the Planning and Local Technical Assistance Programs are sections 203 (42 U.S.C. 3143) and 207 (42 U.S.C. 3147) of PWEDA, respectively. Unless otherwise provided in this notice, applicant eligibility, program objectives and priorities, application procedures, evaluation criteria, selection procedures, and other requirements for the Planning and Local Technical Assistance Programs are set forth in EDA's regulations (codified at 13 CFR chapter III), and the application must comply with these requirements. EDA's regulations and PWEDA are available at http://www.eda.gov/InvestmentsGrants/Lawsreg.xml.

Catalog of Federal Domestic Assistance (CFDA) Numbers: 11.302, Economic Development—Support for Planning Organizations; 11.303, Economic Development—Technical Assistance.

Applicant Eligibility: Pursuant to PWEDA, eligible applicants for and eligible recipients of EDA investment assistance include: (1) District Organizations; (2) Indian Tribes or a consortium of Indian Tribes; (3) States, cities or other political subdivisions of a State, including special purpose units of a State or local government engaged in economic or infrastructure development activities, or a consortium of political subdivisions; (4) institutions of higher education or a consortium of institutions of higher education; or (5) public or private non-profit organizations or associations acting in cooperation with officials of a political subdivision of a State. See section 3 of PWEDA (42 U.S.C. 3122) and 13 CFR 300.3.

EDA is not authorized to provide grants directly to individuals or to for-profit entities seeking to start or expand a private business. Such requests may be referred to State or local agencies, or to non-profit economic development organizations serving the region in which the project will be located.

Economic Distress Criteria: Awards under EDA's Planning and Local Technical Assistance Programs should be designed to have positive economic development impacts within distressed regions and help communities ensure resilient economies. Applicants are responsible for defining the region that the project will assist by providing supporting statistics and other information, as appropriate. Planning awards under section 203 of PWEDA (42 U.S.C. 3143) and 13 CFR part 303 are designed to support planning organizations in developing, implementing, revising or replacing CEDS, and help to create and retain higher-skill, higher-wage jobs, particularly for the unemployed and underemployed in the Nation's most economically distressed regions. See also 13 CFR 303.1. Local Technical Assistance awards may help eligible recipients determine the causes of excessive unemployment, underemployment, low per capita income or outmigration; formulate and implement economic development programs to increase local or regional capacity; or conduct project planning and feasibility studies. See also 13 CFR 306.1. Although meeting specific distress criteria is not a prerequisite for funding under the two programs, the economic distress level of the region impacted by a project serves as the basis for establishing the EDA share of the total cost of a project.

Cost Sharing or Matching Share Requirement: Generally, the amount of the EDA grant may not exceed 50 percent of the total cost of the project. Projects may receive an additional amount that shall not exceed 30 percent, based on the relative needs of the region in which the project will be located, as determined by EDA. See section 204(a) of PWEDA (42 U.S.C. 3144) and 13 CFR 301.4(b)(1). For planning assistance, the minimum EDA investment rate for projects under 13 CFR part 303 is 50 percent, and the maximum allowable EDA investment rate may not exceed 80 percent. See 13 CFR 301.4(b)(3). As specified in section 204(c)(3) of PWEDA (42 U.S.C. 3144) for projects under 13 CFR part 306, the Assistant Secretary of Commerce for Economic Development (Assistant Secretary) has the discretion to establish a maximum EDA investment rate of up to 100 percent where the project (1) merits, and is not otherwise feasible without, an increase to the EDA investment rate; or (2) will be of no or only incidental benefit to the recipient. See 13 CFR 301.4(b)(4).

The Assistant Secretary has the discretion to establish a maximum EDA investment rate of up to 100 percent of the total project cost for EDA investment assistance awarded to a(n): (1) Indian Tribe, (2) State (or political subdivision of a State) that the Assistant Secretary determines has exhausted its effective taxing and borrowing capacity, or (3) non-profit organization that the Assistant Secretary determines has exhausted its effective borrowing capacity. See sections 204(c)(1) and (2) of PWEDA (42 U.S.C. 3144) and 13 CFR 301.4(b)(5). Potential applicants should contact the appropriate EDA regional office to make these determinations.

In the application review process, EDA will consider the nature of the contribution (cash or in-kind) and the amount of the matching share funds. EDA will give preference to applications that include cash contributions (over in-kind contributions) as the matching share. While cash contributions are preferred, in-kind contributions, consisting of contributions of space, equipment, or services, or forgiveness or assumptions of debt, may provide the required non-Federal share of total project costs. See section 204(b) of PWEDA (42 U.S.C. 3144). EDA will fairly evaluate all in-kind contributions, which must be eligible project costs and meet applicable Federal cost principles and uniform administrative requirements. Funds from other Federal financial assistance awards are considered matching share funds only if authorized by statute, which may be determined by EDA's reasonable interpretation of the statute. See 13 CFR 300.3. The applicant must show that the matching share is committed to the project for the full project period, will be available as needed and is not conditioned or encumbered in any way that precludes its use consistent with the requirements of EDA investment assistance. See 13 CFR 301.5.

Restrictions on the Use of EDA Funds: Specific regulations, administrative requirements, and cost principles govern the use of EDA funds. The general and administrative requirements for EDA awards are set forth in 13 CFR parts 300-302. Specific application and award requirements for the Planning and Local Technical Assistance Programs are provided in 13 CFR part 303 and subpart A of 13 CFR part 306, respectively. EDA funds may not be used directly or indirectly to reimburse any attorneys' or consultants' fees incurred in connection with obtaining investment assistance pursuant to this notice. See 13 CFR 302.10.

The uniform administrative requirements for DOC grants and cooperative agreements are codified at 15 CFR parts 14 and 24, as applicable. For EDA's purposes, 15 CFR part 14 governs awards made to institutions of higher education and non-profit organizations, and 15 CFR part 24 governs awards made to States and local governments. Funds awarded cannot necessarily pay for all the costs that a recipient may incur in the course of carrying out a project. See section III.D of the FFO announcement for more information regarding allowable costs under an award and EDA's nonrelocation policy. Applicable administrative requirements and Federal cost principles are incorporated by reference into the terms and conditions of each EDA award.

Application Package Required Forms: The applicant is advised to read carefully the instructions contained in this FFO and in all forms contained in the application package. It is the sole responsibility of the applicant to ensure that a complete application package is received by EDA.

The applicant must complete and submit the Application for Investment Assistance (Form ED-900), and additional Federal grant assistance forms listed below as part of a complete application package. The following forms are required for a complete application package:

1. Form ED-900 (Application for Investment Assistance). One form per project is required.

2. One Form SF-424 (Application for Federal Assistance) from each co-applicant, as applicable.

3. Form SF-424A (Budget Information—Non-Construction Programs). One form per project is required.

4. One Form SF-424B (Assurances—Non-Construction Programs) from each co-applicant, as applicable.

5. One Form CD-511 (Certification Regarding Lobbying) from each co-applicant, as applicable.

In addition, applicants may be required to provide certain lobbying information using Form SF-LLL (Disclosure of Lobbying Activities) and to submit to a background screening using Form CD-346. Form ED-900 provides detailed guidance to help the applicant assess whether Form SF-LLL is required and how to access it. Please note that, if applicable, one Form SF-LLL must be submitted for each co-applicant that has used or plans to use non-federal funds for lobbying in connection with this notice and request for applications. All key individuals of non-profit applicants and applicants that are first-time recipients of EDA or DOC funding are required to provide required individual background screening forms (Form CD-346) for a complete application, but please note that EDA may require other applicants to submit Form CD-346 to comply with DOC requirements. EDA will inform applicants if this is required. Form CD-346 may be accessed at http://ocio.os.doc.gov/s/groups/public/@doc/@os/@ocio/@oitpp/documents/content/dev01_002454.pdf.

Instructions for Completing Form ED-900: Form ED-900 is divided into lettered sections that correspond to specific EDA program components that address EDA's statutory and regulatory requirements. The form details the sections and exhibits that must be completed based on program type. Because this notice seeks Planning and Local Technical Assistance applications only, an applicant needs to complete those sections of Form ED-900 identified in the table below. Complete instructions are included within Form ED-900.

EDA Program | Required Form ED-900 Sections
Partnership Planning | Complete Sections A, C, E, and F and Exhibit C.
Short-Term Planning | Complete Sections A, C, E, and G and Exhibit C.
State Planning | Complete Sections A, C, E, G, and H and Exhibit C.
Local Technical Assistance | Complete Sections A, C, E, and I and Exhibit C.

To limit the burden on the applicant, EDA may request additional documentation only if EDA determines that the applicant's project merits further consideration. The Form ED-900 provides detailed guidance on documentation, information, and other materials that will be requested if, and only if, EDA selects the project for further consideration. EDA will timely inform the applicant if its application has been selected for further consideration or if the application has not been selected for funding.

Intergovernmental Review: Applications for assistance under EDA's programs are subject to the State review requirements imposed by Executive Order 12372, “Intergovernmental Review of Federal Programs.”

Evaluation and Selection Procedures: Application packages submitted under this notice for the Short-Term Planning and Local Technical Assistance Programs will be circulated by a project officer within the applicable EDA regional office for review. After the necessary input and information are obtained, the application is considered by the regional office's Investment Review Committee (IRC), which is comprised of at least three members of regional office staff. The IRC discusses the application (1) using the evaluation criteria set out below under “Evaluation Criteria” and in section IV.A of the FFO announcement; and (2) to determine if it meets the program-specific award and application requirements provided in 13 CFR 303.3 for Planning awards and 13 CFR 306.2 for Local Technical Assistance awards, as applicable.

Evaluation Criteria: For EDA's discretionary grant programs under this notice, namely, Short-Term Planning and Local Technical Assistance, EDA will evaluate applications based on their ability to satisfy the investment policy guidelines identified in this section, with each criterion assigned the weight indicated. These evaluation criteria may be found on EDA's Web site at http://www.eda.gov/InvestmentsGrants/InvestmentPriorities.xml, and applicants are encouraged to review these priorities as they develop their projects.

1. National Strategic Priorities (30%)

EDA seeks to fund applications that encourage job growth and business expansion, as well as promoting one or more of the following initiatives:

• Technology-led economic development,

• Support to small- and medium-sized businesses,

• Global competitiveness and innovation,

• Responses to economic dislocation because of auto industry restructuring or natural disasters,

• Commercialization of research, and/or

• Environmentally sustainable development.

2. Economically Distressed and Underserved Communities (25%)

EDA seeks to fund applications that strengthen communities that have suffered disproportionate economic and job losses or long-term severe economic distress, and/or are rebuilding to become more competitive in the global economy.

3. Return on Investment (25%)

EDA seeks to fund applications that demonstrate a high return on EDA's investment by demonstrating that the project will be likely to stimulate economic development by demonstrating a high probability of leading to actionable projects or identifying specific benchmarks that will measure progress towards outputs.

4. Collaborative Regional Innovation (10%)

EDA seeks to fund applications that support the development and growth of innovation clusters based on existing regional competitive strengths, which may be demonstrated by the extent to which an investment will:

• Promote collaboration among multi-jurisdictional leadership,

• Link and leverage regional assets, and

• Implement or build upon effective planning efforts.

5. Public/Private Partnerships (10%)

EDA seeks to fund applications that use public and private sector resources, and/or leverage complementary investments by other government/public entities and/or non-profits.

Selection Factors: The IRC recommends to the Regional Director whether an application merits further consideration, documenting its recommendation. For quality control assurance, EDA Headquarters reviews the IRC's analysis of the project's ability to fulfill the investment policy guidelines set out above under “Evaluation Criteria.” After receiving quality control clearance, the Selecting Official, who is the Regional Director, considers the evaluations provided by the IRC and also takes into account the degree to which the applications are responsive to one or more of the selection factors provided below when deciding which applications to fund.

1. A determination that the application better meets the overall objectives of section 2 of PWEDA (42 U.S.C. 3121);

2. Relative economic distress of the applicant;

3. Financial or management capability of the applicant;

4. Availability of program funding;

5. Geographic balance in distribution of program funds;

6. Balance of diverse project types in the distribution of program funds;

7. Balanced funding for a diverse group of organizations, to include smaller and rural organizations, which may form part of a broader consortium to serve diverse populations and areas within the regional office's territory;

8. The applicant's performance under previous Federal financial assistance awards;

9. A determination that a project is more likely to create jobs in a shorter timeframe; or

10. Whether the project will enable BRAC-impacted communities to transition from a military to civilian economy and otherwise respond to economic impacts.

The Regional Director's final decision must be consistent with EDA's and the U.S. Department of Commerce's policies. Any time the Regional Director makes a selection that differs from the IRC's recommendations, the Regional Director will document the rationale for the decision in writing.

Notification to Applicants: Applicants for Short-Term Planning assistance or Local Technical Assistance will be notified if their applications are recommended for funding. For Economic Development District Partnership Planning applicants, EDA will continue to handle the award process in accord with current practice. Potential Economic Development District Partnership Planning applicants should contact the applicable EDA regional office for instructions.

If an application is selected for funding and the applicant successfully completes all due diligence requirements, the EDA Grants Officer will issue the grant award (Form CD-450), which is the authorizing financial assistance award document. By signing Form CD-450, the recipient agrees to comply with all award provisions. EDA will provide Form CD-450 by mail or overnight delivery to the appropriate business office of the recipient's organization. The recipient must sign and return the Form CD-450 without modification within 30 days of receipt.

The Department of Commerce Pre-Award Notification Requirements for Grants and Cooperative Agreements: The administrative and national policy requirements for all Department of Commerce awards, contained in the Department of Commerce Pre-Award Notification Requirements for Grants and Cooperative Agreements, published in the Federal Register on February 11, 2008 (73 FR 7696), are applicable to this notice.

Paperwork Reduction Act: This document contains collection-of-information requirements subject to the Paperwork Reduction Act (PRA). The use of Form ED-900 (Application for Investment Assistance) has been approved by the Office of Management and Budget (OMB) under the Control Number 0610-0094. The use of Forms SF-424 (Application for Financial Assistance), SF-424A (Budget Information—Non-Construction Programs), SF-424B (Assurances—Non-Construction Programs), SF-424C (Budget Information—Construction Programs), SF-424D (Assurances—Construction Programs), and Form SF-LLL (Disclosure of Lobbying Activities) has been approved under OMB Control Numbers 4040-0004, 0348-0044, 4040-0007, 4040-0008, 4040-0009, and 0348-0046 respectively. The Form CD-346 (Applicant for Funding Assistance) is approved under OMB Control Number 0605-0001. Notwithstanding any other provision of law, no person is required to respond to, nor shall any person be subject to a penalty for failure to comply with, a collection of information subject to the requirements of the PRA unless that collection of information displays a currently valid OMB Control Number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: November 19, 2010.
Brian P. McGowan,
Deputy Assistant Secretary of Commerce for Economic Development.

[FR Doc. 2010-29744 Filed 11-24-10; 8:45 am]

BILLING CODE 3510-24-P